NATIONAL FOUNDATION ON THE ARTS AND THE HUMANITIES

National Endowment for the Humanities

Agency Information Collection Request; 30-Day Public Comment Request

AGENCY: National Endowment for the Humanities; National Foundation on the Arts and the Humanities.

ACTION: Notice; request for comments.

SUMMARY: The National Endowment for the Humanities (NEH) is seeking Office of Management and Budget (OMB) approval for the information collection described below. In accordance with the Paperwork Reduction Act of 1995, NEH is requesting comments from all interested individuals and organizations on this proposed collection.

DATES: Please submit comments by March 23, 2020.

ADDRESSES: Submit written comments to the Office of Information and Regulatory Affairs, Office of Management and Budget, 725 17th Street NW, Washington, DC 20503, Attn: Desk Officer for the National Endowment for the Humanities; or by email to oira_submission@omb.eop.gov; or by fax to (202) 395-6974.

FOR FURTHER INFORMATION CONTACT: Judith Adkins, Program Officer, National Endowment for the Humanities: 400 Seventh Street SW, Washington, DC 20506, or jadkins@neh.gov.

SUPPLEMENTARY INFORMATION: NEH first published notice of its intent to seek OMB approval for this information collection in the Federal Register of October 10, 2019 (84 FR 54647) and allowed 60 days for public comment. The agency received one public comment, dated October 10, 2019, which expressed general concern about high taxes and doubt about the benefit of this information collection to the taxpayer. NEH acknowledged the comment but determined that it did not call for any change to the planned information collection since the opinion expressed was of a general nature and did not pertain to any specific aspects of the information collection. The purpose of this notice is to allow an additional 30 days for public comment.

Overview of This Information Collection

Type of Request: New collection.

Title: History, The Past, and Public Culture Survey.

OMB Control Number: To be determined.

Abstract: This information collection request (ICR) is pursuant to a cooperative agreement between NEH and the American Historical Association (AHA). The purpose of the survey is to understand how the public perceives, and engages with, history and the work of historians. NEH, AHA, and the many educational and cultural institutions they support will use the information gathered in the proposed survey to create responsive and effective history and other humanities programming to better serve the American people. Most immediately, NEH will use findings from the survey to inform programming for “A More Perfect Union,” the agency's special initiative advancing civic education and commemorating the nation's 250th anniversary in 2026.

NEH and AHA are developing the survey in collaboration with an advisory board, regional history experts, and Fairleigh Dickinson University Poll (FDUP), a market research and public interest survey center. In April of 2020, FDUP will administer this internet survey to adults in the United States. Survey questions will concern respondents' perceptions of history and its significance, their opinions about the work of historians, and their consumption of history in various forms and via a variety of media and experiences. The survey will be voluntary and will collect both qualitative and quantitative information. FDUP will ensure optimal polling methodology and manage the logistics of the data collection. This survey will not collect any personally identifiable information (PII).

Affected Public: Survey respondents will be adult individuals in the United States.

Frequency of Information Collection: Once.

Estimated Number of Respondents: 1,500.

Estimated Average Time per Response: 20 minutes.

Estimated Total Burden Hours: 500 hours.

The estimates for the average time per response and the total burden hours are lower than those provided in the initial Federal Register notice concerning this ICR. After publishing the initial notice, NEH and its survey partners refined the survey questions and response options. While the estimated number of respondents remains the same, NEH now estimates that the average time per response will be 20 (rather than 25) minutes; accordingly, the estimated total burden hours will be 500 (rather than 625) hours.

Request for Comments

The public is invited to comment on all aspects of this ICR, including: (a) Whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: February 14, 2020.
Caitlin Cater,
Attorney-Advisor, National Endowment for the Humanities.

[FR Doc. 2020-03451 Filed 2-20-20; 8:45 am]

BILLING CODE 7536-01-P